DEPARTMENT OF EDUCATION

Office of Special Education and Rehabilitative Services; Overview Information Technology and Media Services for Individuals With Disabilities—Using Assistive Technology To Support Development and Learning of Infants and Toddlers With Disabilities, Birth Through Two; Notice Inviting Applications for New Awards for Fiscal Year (FY) 2007

Catalog of Federal Domestic Assistance (CFDA) Number: 84.327X

Dates: Applications Available: December 19, 2006.

Deadline for Transmittal of Applications: February 2, 2007.

Deadline for Intergovernmental Review: April 3, 2007.

Eligible Applicants: State educational agencies (SEAs); local educational agencies (LEAs); public charter schools that are LEAs under State law; institutions of higher education (IHEs); other public agencies; private nonprofit organizations; outlying areas; freely associated States; Indian tribes or tribal organizations; and for-profit organizations.

Estimated Available Funds: The Administration has requested $31,063,000 for the Technology and Media Services for Individuals With Disabilities program for FY 2007, of which we intend to use an estimated $435,000 for the Using Assistive Technology To Support Development and Learning of Infants and Toddlers With Disabilities, Birth Through Two competition. The actual level of funding, if any, depends on final congressional action. However, we are inviting applications to allow enough time to complete the grant process if Congress appropriates funds for this program.

Maximum Award: We will reject any application that proposes a budget exceeding $435,000 for a single budget period of 12 months. The Assistant Secretary for Special Education and Rehabilitative Services may change the maximum amount through a notice published in the Federal Register.

Estimated Number of Awards: 1.

Note: The Department is not bound by any estimates in this notice.

Project Period: Up to 60 months.

Full Text of Announcement

I. Funding Opportunity Description

Purpose of Program: The purpose of the Technology and Media Services for Individuals With Disabilities program is to: (1) Improve results for children with disabilities by promoting the development, demonstration, and use of technology, (2) support educational media services activities designed to be of educational value in the classroom setting to children with disabilities, and (3) provide support for captioning and video description that is appropriate for use in the classroom setting.

Priority: In accordance with 34 CFR 75.105(b)(2)(v), this priority is from allowable activities specified in the statute (see sections 674 and 681(d) of the Individuals With Disabilities Education Act (IDEA)).

Absolute Priority: For FY 2007 this priority is an absolute priority. Under 34 CFR 75.105(c)(3), we consider only applications that meet this priority.

This priority is:

Technology and Media Services for Individuals With Disabilities—Using Assistive Technology To Support Development and Learning of Infants and Toddlers With Disabilities, Birth through Two

Background

A growing body of research supports the use of assistive technology (AT), including AT devices and AT services as defined in section 602 (1) and (2) of IDEA, for infants and toddlers with disabilities. The early research in this area shows that AT has the potential to increase the ability of infants and toddlers with disabilities to interact with others and to participate in family routines and to increase their functional skills in such areas as mobility and communication. However, a recent national survey of service providers revealed that only 18.1 percent of early intervention service providers believed that all of the infants and toddlers with disabilities they serve who need AT actually receive it. Further, the survey revealed that only approximately four percent of infants and toddlers with disabilities have AT listed in their Individualized Family Service Plan (IFSP) (Wilcox, Bacon, and Campbell, 2004 ¹). These findings may suggest a lack of awareness or knowledge of AT on the part of early intervention service providers and families. While recent research has shed new light on AT devices, services, and contexts in which AT is appropriately used, a review of 27 studies on the use of AT with young children, published within the past 25 years, found that none of the reports discussed how to help children use readily available or low-tech items. In addition, the limited number of publications on evidence-based AT teaching practices seems to emphasize high-tech devices (Dugan, Millborne, Campbell, and Wilcox ²). This suggests there is a need to raise awareness among early intervention service providers and families and to assist them in implementing and evaluating AT practices involving a range of low-tech to high-tech devices to improve the development and learning of infants and toddlers with disabilities.

¹ Wilcox, M., Bacon, C., and Campbell, P. (2004). National Survey of Parents and Providers Using AT in Early Intervention, Research Brief Volume 1, Number 3. Tots n Tech Research Institute. Available from: http://tnt.asu.edu.

² Dugan, L., Millborne, S., Campbell, P., and Wilcox, M. (2004). Evidence Based Practice in Assistive Technology, Research Brief, Volume 1, Number 5. Tots n Tech Research Institute. Available from: http://tnt.asu.edu.

Priority:

This priority supports one cooperative agreement to identify and support the implementation of a range of evidence-based and promising AT practices in early intervention programs with a diverse group of infants and toddlers with disabilities, and their families, service providers, and caregivers, and to develop strategies to scale-up promising AT practices. For purposes of this priority, the term “infants and toddlers with disabilities” means individuals from birth through age two who need early intervention services because they (1) are experiencing developmental delays, as measured by appropriate diagnostic instruments and procedures in one or more of the areas of cognitive development, physical development, communication development, social or emotional development, and adaptive development; or (2) have a diagnosed physical or mental condition that has a high probability of resulting in developmental delay. In selecting AT practices and in assisting service providers and families in implementing AT practices, the project must—

(a) Identify existing evidence-based and promising practices that integrate AT in early intervention programs to improve the development and learning of infants and toddlers with disabilities. These may include validated practices with high levels of research support as well as promising practices that have some research base but may require additional validation. In selecting standards for identifying evidence-based and promising practices, the project must use a methodology that is consistent with evidence standards established by the What Works Clearinghouse (WWC) for its review of causal research, found at http://www.whatworks.ed.gov;

(b) Develop and implement practices to support service providers and families in using a range of low-tech to high-tech AT devices, including readily available materials, in ways that can help families enhance the development and learning of their infants and toddlers with disabilities and promote their participation in activities in everyday settings. These strategies must incorporate provisions for the continued implementation of the practices after Federal support ends;

(c) Identify and recruit early intervention programs to implement the practices identified in accordance with paragraph (a) of this priority. In selecting early intervention programs, the project must consider the culture, language or family income of the infants and toddlers served by the programs, as well as the location (urban and rural settings or, the geographic region) and size of the program;

(d) Provide professional development and training based on the practices identified in accordance with paragraph (a) of this priority to motivate and build capacity of service providers and families to use AT with infants and toddlers with disabilities;

(e) Assist early intervention programs in evaluating the outcomes of the professional development provided in accordance with paragraph (d) of this priority, and the effects of selected AT practices on infant and toddler development;

(f) Promote, where appropriate, opportunities for AT re-use through such avenues as exchange programs, recycling programs, and refurbishment programs; and

(g) Prepare and disseminate information and products, as appropriate, for specific audiences, such as families, service providers, and caregivers.

The project funded under this priority also must—

(1) Meet with the Office of Special Education Programs (OSEP) Project Officer and other appropriate staff in Washington, DC, within the first two months of the project period to clarify project activities and develop a strategic plan for the implementation of the overall project;

(2) Communicate, collaborate, and form partnerships as appropriate, with such entities as: The National Early Childhood Technical Assistance Center (NECTAC), Parent Training and Information Centers (PTIs), Community Parent Resource Centers (CPRCs), the National and Regional Parent Technical Assistance Centers (PTACs), the Regional Resource Centers (RRCs), the Center on Implementing Technology in Education (CITEd), and other OSEP-supported discretionary projects related to the use of AT with infants and toddlers with disabilities;

(3) Establish, maintain, and meet at least annually with an advisory committee consisting of representatives of families, service providers, caregivers, professional organizations and advocacy groups, researchers, and other appropriate groups to review and advise on the project's plans, products, and activities;

(4) Budget to attend a three-day Project Directors' meeting in Washington, DC during each year of the project period; a two-day meeting of technology researchers, manufacturers, developers, and publishers in Washington, DC; and a two-day early childhood meeting in Washington, DC; and

(5) If the project maintains a Web site, include relevant information and documents in a form that meets a government or industry-recognized standard for accessibility.

Fourth and Fifth Years of Project:

In deciding whether to continue this project for the fourth and fifth years, the Secretary will consider the requirements of 34 CFR 75.253(a) for continuation awards.

The Secretary will also consider the following:

(a) The recommendation of a review team consisting of experts selected by the Secretary. The team will conduct its review in Washington, DC during the last half of the project's second year. A project must budget for the travel associated with this one-day intensive review.

(b) The timeliness and effectiveness with which all requirements of the negotiated cooperative agreement have been or are being met by the project.

(c) The degree to which the project is making a positive contribution—and its strategies are demonstrating the potential for disseminating significant knowledge to families, service providers, and caregivers—to using AT to improve outcomes for infants and toddlers with disabilities.

Waiver of Proposed Rulemaking: Under the Administrative Procedure Act (APA) (5 U.S.C. 553), the Department generally offers interested parties the opportunity to comment on proposed priorities. However, section 681(d) of IDEA makes the public comment requirements of the APA inapplicable to the priority in this notice.

Program Authority: 20 U.S.C. 1474 and 1481.

Applicable Regulations: The Education Department General Administrative Regulations (EDGAR) in 34 CFR parts 74, 75, 77, 79, 80, 81, 82, 84, 85, 86, 97, 98, and 99.

Note: The regulations in 34 CFR part 79 apply to all applicants except federally recognized Indian tribes.

Note: The regulations in 34 CFR part 86 apply to IHEs only.

II. Award Information

Type of Award: Cooperative agreement.

Estimated Available Funds: The Administration has requested $31,063,000 for the Technology and Media Services for Individuals with Disabilities program for FY 2007, of which we intend to use an estimated $435,000 for the Using Assistive Technology to Support Development and Learning of Infants and Toddlers with Disabilities, Birth through Two competition. The actual level of funding, if any, depends on final congressional action. However, we are inviting applications to allow enough time to complete the grant process if Congress appropriates funds for this program.

Maximum Award: We will reject any application that proposes a budget exceeding $435,000 for a single budget period of 12 months. The Assistant Secretary for Special Education and Rehabilitative Services may change the maximum amount through a notice published in the Federal Register.

Estimated Number of Awards: 1.

Note: The Department is not bound by any estimates in this notice.

Project Period: Up to 60 months.

III. Eligibility Information

1. Eligible Applicants: SEAs; LEAs; public charter schools that are LEAs under State law; IHEs; other public agencies; private nonprofit organizations; outlying areas; freely associated States; Indian tribes or tribal organizations; and for-profit organizations.

2. Cost Sharing or Matching: This competition does not involve cost sharing or matching.

3. Other: General Requirements—(a) The projects funded under this competition must make positive efforts to employ and advance in employment qualified individuals with disabilities (see section 606 of IDEA).

(b) Applicants and grant recipients funded under this competition must involve individuals with disabilities or parents of individuals with disabilities ages birth through 26 in planning, implementing, and evaluating the projects (see section 682(a)(1)(A) of IDEA).

IV. Application and Submission Information

1. Address to Request Application Package: Education Publications Center (ED Pubs), P.O. Box 1398, Jessup, MD 20794-1398. Telephone (toll free): 1-877-433-7827. FAX: (301) 470-1244. If you use a telecommunications device for the deaf (TDD), you may call (toll free): 1-877-576-7734.

You may also contact ED Pubs at its Web site: http://www.ed.gov/pubs/edpubs.html or you may contact ED Pubs at its e-mail address: edpubs@inet.ed.gov

If you request an application from ED Pubs, be sure to identify this competition as follows: CFDA Number 84.327X.

Individuals with disabilities may obtain a copy of the application package in an alternative format (e.g., Braille, large print, audiotape, or computer diskette) by contacting the Grants and Contracts Services Team listed under FOR FURTHER INFORMATION CONTACT in section VII of this notice.

2. Content and Form of Application Submission: Requirements concerning the content of an application, together with the forms you must submit, are in the application package for this competition.

Page Limit: The application narrative (Part III of the application) is where you, the applicant, address the selection criteria that reviewers use to evaluate your application. You must limit Part III to the equivalent of no more than 70 pages, using the following standards:

• A “page” is 8.5″ × 11″, on one side only, with 1″ margins at the top, bottom, and both sides.

• Double space (no more than three lines per vertical inch) all text in the application narrative, including titles, headings, footnotes, quotations, references, and captions, as well as all text in charts, tables, figures, and graphs.

• Use a font that is either 12 point or larger or no smaller than 10 pitch (characters per inch).

The page limit does not apply to Part I, the cover sheet; Part II, the budget section, including the narrative budget justification; Part IV, the assurances and certifications; the one-page abstract, the resumes, the bibliography, the references, or the letters of support. However, you must include all of the application narrative in Part III.

We will reject your application if—

• You apply these standards and exceed the page limit; or

• You apply other standards and exceed the equivalent of the page limit.

3. Submission Dates and Times: Applications Available: December 19, 2006. Deadline for Transmittal of Applications: February 2, 2007.

Applications for grants under this competition may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements. Deadline for Intergovernmental Review: April 3, 2007.

4. Intergovernmental Review: This program is subject to Executive Order 12372 and the regulations in 34 CFR part 79. Information about Intergovernmental Review of Federal Programs under Executive Order 12372 is in the application package for this competition.

5. Funding Restrictions: We reference regulations outlining funding restrictions in the Applicable Regulations section of this notice.

6. Other Submission Requirements: Applications for grants under this competition may be submitted electronically or in paper format by mail or hand delivery.

a. Electronic Submission of Applications.

We have been accepting applications electronically through the Department's e-Application system since FY 2000. In order to expand on those efforts and comply with the President's Management Agenda, we are continuing to participate as a partner in the new government wide Grants.gov Apply site in FY 2007. Using Assistive Technology to Support Development and Learning of Infants and Toddlers with Disabilities, Birth through Two-CFDA Number 84.327X is one of the competitions included in this project. We request your participation in Grants.gov.

If you choose to submit your application electronically, you must use the Grants.gov Apply site at http://www.Grants.gov. Through this site, you will be able to download a copy of the application package, complete it offline, and then upload and submit your application. You may not e-mail an electronic copy of a grant application to us.

You may access the electronic grant application for the Using Assistive Technology to Support Development and Learning of Infants and Toddlers with Disabilities, Birth through Two—CFDA Number 84.327X competition at: http://www.grants.gov You must search for the downloadable application package for this program by the CFDA number. Do not include the CFDA number's alpha suffix in your search.

Please note the following:

• Your participation in Grants.gov is voluntary.

• When you enter the Grants.gov site, you will find information about submitting an application electronically through the site, as well as the hours of operation.

• Applications received by Grants.gov are time and date stamped. Your application must be fully uploaded and submitted, and must be date/time stamped by the Grants.gov system no later than 4:30 p.m., Washington, DC time, on the application deadline date. Except as otherwise noted in this section, we will not consider your application if it is date/time stamped by the Grants.gov system later than 4:30 p.m., Washington, DC time, on the application deadline date. When we retrieve your application from Grants.gov, we will notify you if we are rejecting your application because it was date/time stamped by the Grants.gov system after 4:30 p.m., Washington, DC time, on the application deadline date.

• The amount of time it can take to upload an application will vary depending on a variety of factors including the size of the application and the speed of your Internet connection. Therefore, we strongly recommend that you do not wait until the application deadline date to begin the application process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all of the steps in the Grants.gov registration process (see http://www.grants.gov/applicants/get_registered.jsp). These steps include (1) registering your organization, (2) registering yourself as an Authorized Organization Representative (AOR), and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to successfully submit an application via Grants.gov.

• You will not receive additional point value because you submit your application in electronic format, nor will we penalize you if you submit your application in paper format.

• You may submit all documents electronically, including all information typically included on the following forms: Application for Federal Assistance (SF 424), the Department of Education Supplemental Information for SF 424, Budget Information—Non-Construction Programs (ED 524), and all necessary assurances and certifications. Please note that two of these forms—the SF 424 and the Department of Education Supplemental Information for SF 424—have replaced the ED 424 (Application for Federal Education Assistance). If you choose to submit your application electronically, you must attach any narrative sections of your application as files in a .DOC (document), .RTF (rich text), or .PDF (Portable Document) format. If you upload a file type other than the three file types specified above or submit a password protected file, we will not review that material.

• Your electronic application must comply with any page limit requirements described in this notice.

• After you electronically submit your application, you will receive an automatic acknowledgment from Grants.gov that contains a Grants.gov tracking number. The Department will retrieve your application from Grants.gov and send you a second confirmation by e-mail that will include a PR/Award number (an ED-specified identifying number unique to your application).

• We may request that you provide us original signatures on forms at a later date.

Application Deadline Date Extension in Case of System Unavailability

If you are prevented from electronically submitting your application on the application deadline date because of technical problems with the Grants.gov system, we will grant you an extension until 4:30 p.m., Washington, DC time, the following business day to enable you to transmit your application electronically, or by hand delivery. You also may mail your application by following the mailing instructions as described elsewhere in this notice. If you submit an application after 4:30 p.m., Washington, DC time, on the deadline date, please contact the person listed elsewhere in this notice under FOR FURTHER INFORMATION CONTACT, and provide an explanation of the technical problem you experienced with Grants.gov, along with the Grants.gov Support Desk Case Number (if available). We will accept your application if we can confirm that a technical problem occurred with the Grants.gov system and that that problem affected your ability to submit your application by 4:30 p.m., Washington, DC time, on the application deadline date. The Department will contact you after a determination is made on whether your application will be accepted.

Note: Extensions referred to in this section apply only to the unavailability of or technical problems with the Grants.gov system. We will not grant you an extension if you failed to fully register to submit your application to Grants.gov before the deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.327X), 400 Maryland Avenue, SW., Washington, DC 20202-4260; or

By mail through a commercial carrier: U.S. Department of Education, Application Control Center—Stop 4260, Attention: (CFDA Number 84.327X), 7100 Old Landover Road, Landover, MD 20785-1506.

Regardless of which address you use, you must show proof of mailing consisting of one of the following:

(1) A legibly dated U.S. Postal Service postmark,

(2) A legible mail receipt with the date of mailing stamped by the U.S. Postal Service,

(3) A dated shipping label, invoice, or receipt from a commercial carrier, or

(4) Any other proof of mailing acceptable to the Secretary of the U.S. Department of Education.

If you mail your application through the U.S. Postal Service, we do not accept either of the following as proof of mailing:

(1) A private metered postmark, or

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.327X), 550 12th Street, SW., Room 7041, Potomac Center Plaza, Washington, DC 20202-4260.

The Application Control Center accepts hand deliveries daily between 8 a.m. and 4:30 p.m., Washington, DC time, except Saturdays, Sundays and Federal holidays.

Note for Mail or Hand Delivery of Paper Applications: If you mail or hand deliver your application to the Department:

(1) You must indicate on the envelope and—if not provided by the Department—in Item 11 of SF 424 the CFDA number—and suffix letter, if any—of the competition under which you are submitting your application.

(2) The Application Control Center will mail a grant application receipt acknowledgment to you. If you do not receive the grant application receipt acknowledgment within 15 business days from the application deadline date, you should call the U.S. Department of Education Application Control Center at (202) 245-6288.

V. Application Review Information

Selection Criteria: The selection criteria for this competition are from 34 CFR 75.210 and are listed in the application package.

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of your project period, you must submit a final performance report, including financial information, as directed by the Secretary. If you receive a multi-year award, you must submit an annual performance report that provides the most current performance and financial expenditure information as specified by the Secretary in 34 CFR 75.118.

4. Performance Measures: Under the Government Performance and Results Act of 1993 (GPRA), the Department has developed measures that will yield information on various aspects of the quality of the Technology and Media Services for Individuals with Disabilities program. These measures focus on the extent to which projects are of high quality, are relevant to the needs of children with disabilities, and contribute to improving the results for children with disabilities. Data on these measures will be collected from the projects funded under this competition.

Grantees also will be required to report information on their projects' performance in annual reports to the Department (34 CFR 75.590).

VII. Agency Contact

For Further Information Contact: Peggy Cvach or Jane Hauser, U.S. Department of Education, 400 Maryland Avenue, SW., rooms 4060 and 4067, respectively, Potomac Center Plaza, Washington, DC 20202-2550. Telephone: (202) 245-7314 and (202) 245-7373, respectively.

If you use a telecommunications device for the deaf (TDD), you may call the Federal Relay Service (FRS) at 1-800-877-8339.

Individuals with disabilities may obtain this document in an alternative format (e.g., Braille, large print, audiotape, or computer diskette) on request by contacting the following office: The Grants and Contracts Services Team, U.S. Department of Education, 400 Maryland Avenue, SW., Potomac Center Plaza, Washington, DC 20202-2550. Telephone: (202) 245-7363.

VIII. Other Information

Electronic Access to This Document: You may view this document, as well as all other documents of this Department published in the Federal Register, in text or Adobe Portable Document Format (PDF) on the Internet at the following site: http://www.ed.gov/news/fedregister

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html

Dated: December 13, 2006.
John H. Hager,
Assistant Secretary for Special Education and, Rehabilitative Services.

[FR Doc. E6-21635 Filed 12-18-06; 8:45 am]

BILLING CODE 4000-01-P